DEPARTMENT OF DEFENSE

United States Marine Corps; Privacy Act of 1974; System of Records

AGENCY: United States Marine Corps, DoD.

ACTION: Notice to delete three system of records notices.

SUMMARY: The U.S. Marine Corps is deleting three systems of records notices from its inventory of records systems subject to the Privacy Act of 1974, as amended (5 U.S.C. 552a).

DATES: Effective March 24, 2008.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records systems notices for records systems subject to the Privacy Act of 1974 (5 U.S.C. 552a), as amended, have been published in the Federal Register and are available from the address above.

The U.S. Marine Corps proposes to delete three systems of records notices from its inventory of record systems subject to the Privacy Act of 1974 (5 U.S.C. 552a), as amended. The changes to the system of records are not within the purview of subsection (r) of the Privacy Act of 1974 (5 U.S.C. 552a), as amended, which requires the submission of new or altered systems reports.

February 14, 2008.
L.M. Bynum,
Alternate OSD Federal Register Liaison Officer, Department of Defense.

Deletions

MMN00018

SYSTEM NAME:

Base Security Incident Report System (February 22, 1993, 58 FR 10630).

REASON:

Navy/Marine system of records notice NM05580-1, Security Incident System, printed in the Federal Register on January 9, 2007, with the number of 72 FR 958 is a joint Navy and Marine Corps system that covers this collection. Accordingly, all files have been merged into this system.

MMN00036

SYSTEM NAME:

Identification Card Control (January 4, 2000, 65 FR 291).

REASON:

Navy/Marine system of records notice NM05512-2, Badge and Access Control System, printed in the Federal Register on August 15, 2007 with the number of 72 FR 45798 is a joint Navy and Marine Corps system that covers this collection. Accordingly, all files have been merged into this system.

MMN00038

SYSTEM NAME:

Amateur Radio Operator's File (January 4, 2000, 65 FR 291).

REASON:

Navy/Marine system of records notice NM05000-2, Program Management and Locator System printed in the Federal Register on January 24, 2008 with the number of 73 FR 4193 is a joint Navy and Marine Corps system that covers this collection. Accordingly, all files have been merged into this system.

[FR Doc. E8-3290 Filed 2-20-08; 8:45 am]

BILLING CODE 5001-06-P